DEPARTMENT OF THE TREASURY

Office of Foreign Assets Control

Actions Taken Pursuant to Executive Order 13645

AGENCY: Office of Foreign Assets Control, Treasury Department.

ACTION: Notice.

SUMMARY: The Treasury Department's Office of Foreign Assets Control (“OFAC”) is listing the names of two individuals and one entity pursuant to Executive Order 13645 of June 3, 2013, “Authorizing the Implementation of Certain Sanctions Set Forth in the Iran Freedom and Counter-Proliferation Act of 2012 and Additional Sanctions With Respect To Iran” on the list of Specially Designated Nations and Blocked Persons (“SDN List”).

DATES: The addition of the two individuals and one entity to the SDN List is effective as of April 29, 2014.

FOR FURTHER INFORMATION CONTACT: Assistant Director, Compliance Outreach & Implementation, Office of Foreign Assets Control, Department of the Treasury, Washington, DC 20220, Tel.: 202/622-2490.

SUPPLEMENTARY INFORMATION:

Electronic and Facsimile Availability

This document and additional information concerning OFAC are available from OFAC's Web site (www.treasury.gov/ofac) or via facsimile through a 24-hour fax-on-demand service, Tel.: 202/622-0077.

Background

On June 3, 2013, the President issued Executive Order 13645 (“Authorizing the Implementation of Certain Sanctions Set Forth in the Iran Freedom and Counter-Proliferation Act of 2012 and Additional Sanctions With Respect to Iran”) (“the Order”) with respect to Iran pursuant to, the International Emergency Economic Powers Act (50 U.S.C. 1701 et seq.) (IEEPA), the National Emergencies Act (50 U.S.C. 1601 et seq.), the Comprehensive Iran Sanctions, Accountability, and Divestment Act of 2010 (Pub. L. 111-195) (22 U.S.C. 8501 et seq.) (CISADA), the Iran Freedom and Counter-Proliferation Act of 2012 (subtitle D of title XII of Pub. L. 112-239) (22 U.S.C. 8801 et seq.) (IFCA), section 212(f) of the Immigration and Nationality Act of 1952 (8 U.S.C. 1182(f)), and section 301 of title 3, United States Code, and in order to take additional steps with respect to the national emergency declared in Executive Order 12957 of March 15, 1995.

Section 2 of the Order blocks, with certain exceptions, all property, and interests in property, that are in, or that hereafter come within the United States, or that are or hereafter come within the possession or control of any United States person, of any person determined by the Secretary of the Treasury, in consultation with the Secretary of State, to satisfy any of the criteria set forth in subparagraphs (a)(i) through (a)(ii) of Section 2.

On April 29, 2014, the Acting Director of OFAC designated, pursuant to subparagraph (a)(i) of Section 2 of the Order, the following two individuals and identified the following one entity, whose names have been added to the list of Specially Designated Nationals and Blocked Persons and whose property and interests in property are blocked, pursuant to the Order:

1. AL AQILI, Mohamed Saeed (a.k.a. AL MARZOOQI, Mohamed Saeed Mohamed Al Aqili); DOB 23 Jul 1955; POB Dubai, United Arab Emirates; Additional Sanctions Information—Subject to Secondary Sanctions; Executive Order 13645 Determination—Material Support; Passport A2599829 (United Arab Emirates); National ID No. 784-1955-8497107-1; Vice Chairman and Chief Executive Officer, Al Aqili Group LLC (individual) [EO13645] (Linked To: NATIONAL IRANIAN OIL COMPANY; Linked To: ISLAMIC REVOLUTIONARY GUARD CORPS; Linked To: SEYYEDI, Seyed Nasser Mohammad; Linked To: KASB INTERNATIONAL LLC).

2. AL AQILI GROUP LLC (a.k.a. AL AQILI GROUP OF COMPANIES), Oud Metha Tower, 10th Floor, PO Box 1496, Dubai, United Arab Emirates; Web site www.aqili.com; Email Address info@aqili.com; Additional Sanctions Information—Subject to Secondary Sanctions [EO13645].

3. NIZAMI, Anwar Kamal; DOB 19 Apr 1980; citizen Pakistan; Additional Sanctions Information—Subject to Secondary Sanctions; Executive Order 13645 Determination—Material Support; Passport AE9855872 (Pakistan); Accounts Manager, First Furat Trading LLC (individual) [EO13645] (Linked To: KASB INTERNATIONAL LLC).

Dated: April 29, 2014.
Barbara C. Hammerle,
Acting Director, Office of Foreign Assets Control.

[FR Doc. 2014-10442 Filed 5-6-14; 8:45 am]

BILLING CODE 4811-45-P